DEPARTMENT OF HEALTH AND HUMAN SERVICES

Health Resources and Services Administration

Meeting of the National Advisory Committee on Rural Health and Human Services

AGENCY: Health Resources and Services Administration (HRSA), Department of Health and Human Services.

ACTION: Notice.

SUMMARY: In accordance with the Federal Advisory Committee Act, this notice announces that the Secretary's National Advisory Committee on Rural Health and Human Services (NACRHHS) has scheduled its semiannual meeting. Information about NACRHHS and the agenda for this meeting can be found on the NACRHHS website at https://www.hrsa.gov/advisory-committees/rural-health/index.html.

DATES: Wednesday, September 4, 2024, 9 a.m.-5 p.m. mountain daylight time (MDT); Thursday, September 5, 2024, 9 a.m.-5 p.m. MDT; Friday, September 6, 2024, 9 a.m.-12 p.m. MDT.

ADDRESSES: The meeting will be conducted in two separate locations. On September 4, 2024, the meeting will commence at the Hilton Santa Fe Historic Plaza Hotel, 100 Sandoval Street, Santa Fe, New Mexico, 87501. That afternoon, the meeting will resume at the Historic Plaza Hotel, 230 Plaza Street, Las Vegas, New Mexico 87701. Telephone: (505) 425-3591. The Plaza Hotel will be the physical location for both the September 5 and September 6 meetings.

The meeting will also be accessible to the public virtually via Zoom. The meeting details are included below. There is no need to register for this meeting. If joining virtually, please use the following information. This is the link for all days of the meeting:

Join Zoom Meeting https://us02web.zoom.us/j/81769614451.

Meeting ID: 817 6961 4451.

One tap mobile

+13052241968,,81769614451# US

+19294362866,,81769614451# US (New York)

Dial by your location

• +1 305 224 1968 US

• +1 929 436 2866 US (New York)

• +1 301 715 8592 US (Washington, DC)

• +1 312 626 6799 US (Chicago)

• +1 669 900 6833 US (San Jose)

• +1 253 215 8782 US (Tacoma)

• +1 346 248 7799 US (Houston)

Meeting ID: 817 6961 4451.

Find your local number: https://us02web.zoom.us/u/kcNArnR1zE.

FOR FURTHER INFORMATION CONTACT: Sahira Rafiullah, Designated Federal Officer of NACRHHS, 5600 Fishers Lane, Rockville, Maryland 20857; 240-316-5874; or srafiullah@hrsa.gov.

SUPPLEMENTARY INFORMATION: NACRHHS provides advice and recommendations to the Secretary of Health and Human Services on policy, program development, and other matters of significance concerning both rural health and rural human services. At this meeting the committee will discuss the opioid crisis and its impact on rural families. The emphasis will be on prevention efforts but will include related discussions of treatment and recovery. At this meeting, NACRHHS will discuss the availability of disability services in rural areas. Members of the public will have the opportunity to provide comments. Public participants wishing to provide oral comments must submit a written version of their comments at least 3 business days in advance of the scheduled meeting. Oral comments will be honored in the order they are requested and may be limited as time permits. Public participants wishing to offer written comments should send them to Sahira Rafiullah, using the contact information above, at least 3 business days prior to the meeting. Individuals who plan to attend either physically or virtually and need special assistance or other reasonable accommodation should notify Sahira Rafiullah through any of the methods listed above, at least 10 business days prior to the meeting.

Maria G. Button,
Director, Executive Secretariat.

[FR Doc. 2024-18370 Filed 8-15-24; 8:45 am]

BILLING CODE 4165-15-P